POSTAL SERVICE

39 CFR Part 20

International Product Changes

AGENCY: Postal Service™.

ACTION: Final rule.

SUMMARY: The Postal Service is revising Mailing Standards of the United States Postal Service, International Mail Manual (IMM®), to reflect classification changes to Competitive Services, as established by the Governors of the Postal Service.

DATES: The effective date of this rule is June 3, 2016.

FOR FURTHER INFORMATION CONTACT: Paula Rabkin at 202-268-2537.

SUPPLEMENTARY INFORMATION: New classification changes are available under Docket Number MC2016-118 on the Postal Regulatory Commission's Web site at http://www.prc.gov.

This final rule describes the international classification changes and the corresponding mailing standards changes for the following Competitive Service:

Priority Mail International

Priority Mail International® service provides reliable and affordable international delivery service to more than 180 countries. The price for Priority Mail International service is unchanged. The following classification changes are made to support the shift of certain volumes to the air parcel stream:

Priority Mail International Flat Rate Envelopes and Small Flat Rate Priced Boxes

Currently, the Postal Service dispatches Priority Mail International Flat Rate Envelopes and Small Flat Rate Priced Boxes in the letter post stream, while all other Priority Mail International items are dispatched in the air parcel stream. We are moving the Priority Mail International Flat Rate Envelopes and Small Flat Rate Priced Boxes to the air parcel stream so that these items can receive the expanded access to tracking and insurance available to all other Priority Mail International items.

List of Subjects in 39 CFR Part 20

Foreign relations, International postal services.

The Postal Service hereby adopts the following changes to Mailing Standards of the United States Postal Service, International Mail Manual (IMM), which is incorporated by reference in the Code of Federal Regulations. See 39 CFR 20.1. Accordingly, 39 CFR part 20 is amended as follows:

PART 20—[AMENDED]

1. The authority citation for 39 CFR part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of Mailing Standards of the United States Postal Service, International Mail Manual (IMM), as follows:

Mailing Standards of the United States Postal Service, International Mail Manual (IMM)

* * * * *

1 International Mail Services

* * * * *

120 Preparation for Mailing

* * * * *

123 Customs Forms and Online Shipping Labels

* * * * *

123.6 Required Usage

123.61 Conditions

* * * * *

[Revise the second sentence of item c to read as follows:]

c. * * * In certain circumstances, this might require the mailer to send the mailpiece via Priority Mail Express International service or Priority Mail International service.

Exhibit 123.61

Customs Declaration Form Usage by Mail Category

[Revise the noted sections of the Exhibit as follows: (1) Replace the three separate Priority Mail International sections with just one section; (2) revise the last row of the First-Class Mail International section; (3) revise the first row of the First-Class Package International Service section; and (4) revise the footnote, all to read as follows:]

Type of item | Declared value, weight, or physical characteristic | Required form | Comment (if applicable)
* * * * * * *
Priority Mail International Items
All Priority Mail International items | All values | 2976-A | All items mailed in USPS-produced Priority Mail International packaging (including Flat Rate Envelopes and Small Flat Rate Priced Boxes) or any other container bearing a Priority Mail sticker or marked with the words “Priority Mail” are considered to be within the scope of this requirement.
First-Class Mail International Letters and Large Envelopes (Flats), Including International Priority Airmail (IPA) Items and International Surface Air Lift (ISAL) Items (Maximum weight limit: 4 pounds)
* * * * * * *
All items containing any goods, regardless of weight | * * * * *
| Over $400 | Prohibited | Items over $400 must be mailed using Global Express Guaranteed service, Priority Mail Express International service, or Priority Mail International service.
First-Class Package International Service Packages (Small Packets), Including IPA Items and ISAL Items (Maximum weight limit: 4 pounds)
All First-Class Package International Service packages (small packets), as defined in 251.2, regardless of contents
| * * * * *
| Over $400 | Prohibited | Items over $400 must be mailed using Global Express Guaranteed service, Priority Mail Express International service, or Priority Mail International.
* * * * * * *
* Qualifying items must meet the physical characteristics in 241.235. For example, the following items do not meet this requirement and must bear PS Form 2976: (1) First-Class Package International Service items and (2) IPA and ISAL packages (small packets) containing only documents.

* * * * *

130 Mailability

* * * * *

134 Valuable Articles

134.1 Service Options

* * * * *

[Revise item b to read as follows:]

* * * * *

b. Priority Mail International service.

* * * * *

140 International Mail Categories

141 Definitions

* * * * *

141.4 Priority Mail International

[Revise 141.4 in its entirety to read as follows:]

Priority Mail International is subject to the provisions of the Universal Postal Union Parcel Convention. This classification is primarily designed to accommodate larger and heavier shipments whose size and/or weight exceeds the limits for First-Class Mail International Service or First-Class Package International Service. For countries that offer parcel service, maximum weight limits range from 22 pounds to 70 pounds. To determine the maximum weight limit for each country, see the Individual Country Listings. At the sender's option, extra services, such as additional merchandise insurance coverage and return receipt service, may be added on a country-specific basis.

Priority Mail International Flat Rate Envelopes and Small Flat Rate Priced Boxes provide customers with an economical means of sending correspondence, documents, printed matter, and lightweight merchandise items to foreign destinations. The maximum weight limit is 4 pounds. Registered Mail service is not available for Priority Mail International Flat Rate Envelopes and Small Flat Rate Priced Boxes. At the sender's option, extra services, such as additional merchandise insurance coverage and return receipt service, may be added to Priority Mail International Flat Rate Envelopes and Small Flat Rate Priced Boxes on a country-specific basis.

* * * * *

2 Conditions for Mailing

* * * * *

230 Priority Mail International

231 Description and Physical Characteristics

231.1 General

[Revise the text to read as follows:]

Priority Mail International service is considered a parcel stream for mail exchange purposes.

* * * * *

232 Eligibility

[Revise the title and text of 232.1 in its entirety to read as follows (replacing current section 232.11 and deleting current section 232.12):]

232.1 Priority Mail International Flat Rate Envelopes and Small Flat Rate Priced Boxes—General

Correspondence, negotiable and nonnegotiable documents, printed matter, and lightweight merchandise items may be sent in Priority Mail International Flat Rate Envelopes or Small Flat Rate Priced Boxes provided the contents are mailable, they fit securely in the envelope or box, and they are entirely confined within the container with the provided adhesive as the means of closure. The flap must close within the prefabricated fold. Tape may be applied to the flap and seams for closure or for reinforcement, provided the design of the container is not enlarged by opening the sides and taping or reconstructing the container in any way. Refer to the Individual Country Listings for additional prohibitions for each country. Priority Mail International Flat Rate Envelopes and Small Flat Rate Priced Boxes containing merchandise are insured against loss, damage, or missing contents up to $200 at no additional charge. Additional merchandise insurance may be available, depending on country and value. Priority Mail International Flat Rate Envelopes and Small Flat Rate Priced Boxes containing only nonnegotiable documents are insured against loss, damage, or missing contents up to $100 for document reconstruction at no additional charge. See Exhibit 322.2 and the Individual Country Listings for insurance availability, limitations, and coverage. Registered Mail service is not available.

* * * * *

232.6 Customs Forms Required

232.61 Priority Mail International Flat Rate Envelopes and Small Flat Rate Priced Boxes

[Revise the text in its entirety to read as follows:]

Each Priority Mail International Flat Rate Envelope and each Priority Mail International Small Flat Rate Priced Box must bear a properly completed PS Form 2976-A.

* * * * *

232.7 Mail Sealed Against Inspection

[Revise the text to read as follows:]

No Priority Mail International items (USPS-produced Flat Rate Boxes, Flat Rate Envelopes, and Small Flat Rate Priced Boxes; USPS-produced Tyvek envelopes; or customer-supplied boxes and envelopes) are sealed against inspection. Regardless of physical closure, the mailing of Priority Mail International items constitutes consent by the mailer to inspection of the contents.

232.8 Priority International Insurance and Indemnity

232.81 Indemnity

[Revise the first sentence to read as follows:]

Priority Mail International items containing merchandise are insured against loss, damage, or missing contents up to $200 at no additional charge.* * *

* * * * *

232.9 Extra Services

[Delete 232.91 “Certificate of Mailing” and 232.93 “Registered Mail Service,” renumber 232.92 as 232.91, and renumber 232.94 as 232.92:]

232.91 Merchandise Insurance

[Revise the first sentence to read as follows:]

Merchandise insurance that provides coverage greater than the included $200 merchandise insurance is available for Priority Mail International items to many countries. * * *

* * * * *

232.92 Return Receipt Service

[Revise the text in its entirety to read as follows:]

Return receipt service is available for purchase to certain destinations (see the Individual Country Listings for availability) for Priority Mail International items, including Priority Mail International Small Flat Rate Priced Boxes, and Priority Mail International Flat Rate Envelopes. See 340 for preparation procedures.

* * * * *

240 First-Class Mail International

* * * * *

242 Eligibility

* * * * *

242.2 Customs Forms Required

242.21 Dutiable Merchandise

The following conditions apply to dutiable merchandise mailed with First-Class Mail International service:

* * * * *

[Revise item d to read as follows:]

d. The maximum value for dutiable merchandise is $400. Items exceeding $400 must be mailed using Global Express Guaranteed service, Priority Mail Express International service, or Priority Mail International service.

* * * * *

250 First-Class Package International Service

* * * * *

252 Eligibility

252.1 Content

[Revise the last sentence to read as follows:]

* * * * *

* * * Items exceeding $400 must be mailed using Global Express Guaranteed service, Priority Mail Express International service, or Priority Mail International service.

* * * * *

270 Free Matter for the Blind

* * * * *

272 Eligibility

* * * * *

272.6 Extra Services

* * * * *

[Revise items a and b to read as follows:]

a. Registered Mail service for First-Class Mail International items and First-Class Package International Service items.

b. Additional merchandise insurance service for Priority Mail International Flat Rate Envelopes and Small Flat Rate Priced Boxes up to 4 pounds and Priority Mail International items up to 15 pounds.

* * * * *

3 Extra Services

310 Certificate of Mailing

311 Individual Pieces

* * * * *

311.2 Availability

311.21 At Time of Purchase

* * * * *

[Delete items e and f and redesignate item g as item e

* * * * *

312 Bulk Quantities—Certificate of Mailing

* * * * *

312.2 Availability

312.21 At Time of Entry

[Delete items e and f and redesignate item g as item e]

* * * * *

320 Insurance

* * * * *

323 Priority Mail International Insurance

323.1 Description

[Revise the text to read as follows:]

Priority Mail International shipments containing merchandise are insured against loss, damage, or missing contents up to $200 at no additional charge. Priority Mail International shipments containing only nonnegotiable documents are insured against loss, damage, or missing contents up to $100 for document reconstruction at no additional charge. Indemnity is paid by the U.S. Postal Service as provided in 933. For a fee, the sender may purchase additional insurance to protect against loss, damage, or missing contents for Priority Mail International items containing merchandise, subject to individual country limitations. Additional document reconstruction insurance may not be purchased. If the item has been lost, or if it has been delivered to the addressee in damaged condition or with missing contents, payment is made to the sender unless the sender waives the right to payment, in writing, in favor of the addressee.

323.2 Availability

[Revise the text in its entirety to read as follows:]

Merchandise insurance above the included $200 amount is available for all Priority Mail International items, to certain countries. See Exhibit 322.2.

* * * * *

330 Registered Mail

* * * * *

332 Availability

[Revise the text to read in its entirety to read as follows:]

Customers may purchase Registered Mail service for items that weigh up to 4 pounds. Registered Mail service is not available with Global Express Guaranteed, Priority Mail Express International, or Priority Mail International service or any type of M-bag service. See Individual Country Listings for additional country-specific prohibitions and restrictions. Registered Mail service is available for the following types of mail:

a. First-Class Mail International items, including Free Matter for the Blind items.

b. First-Class Package International Service items, including Free Matter for the Blind items.

* * * * *

340 Return Receipt

341 Description

[Revise the first sentence to read as follows:]

PS Form 2865, Return Receipt for International Mail (Avis de Reception), is a pink card that is attached to a registered item or a Priority Mail International item at the time of mailing and that is removed and signed at the point of delivery and returned to the sender. * * *

342 Availability

[Revise the first sentence to read as follows:]

Return receipts can be purchased only at the time of mailing and are available only for a registered item or a Priority Mail International item. * * *

4 Treatment of Outbound Mail

* * * * *

420 Unpaid and Shortpaid Mail

* * * * *

423 Shortpaid Mail

* * * * *

423.2 Disposition

* * * * *

[Revise the heading for 423.23 to read as follows:]

423.23 Priority Mail International Items

423.231 Items Paid With a Permit Imprint or USPS-Produced PVI Label

[Revise the text to read as follows:]

Regardless of the amount of deficiency, consider as paid in full each shortpaid Priority Mail International item that is paid with a permit imprint or USPS-produced postage validation imprinter (PVI) label, and dispatch it to the appropriate International Service Center (ISC).

423.232 Items Paid With Any Other Postage Payment Method

[Revise the first sentence to read as follows:]

The disposition of a shortpaid Priority Mail International item paid with a postage payment method other than a permit imprint or USPS-produced PVI label is based on the amount of the deficiency, as follows: * * *

* * * * *

[After item b2, delete the Note]

[Revise the heading of 423.24 to read as follows:]

423.24 First-Class Mail International Items (including Postcards), First-Class Package International Service Items, and Airmail M-bags

423.241 Items Paid With a Permit Imprint or USPS-Produced PVI Label

[Revise the text to read as follows:]

Regardless of the amount of deficiency, consider as paid in full each shortpaid First-Class Mail International item (including a postcard), First-Class Package International Service item, and Airmail M-bag that is paid with a permit imprint or USPS-produced postage validation imprinter (PVI) label, and dispatch it to the appropriate International Service Center (ISC).

423.242 Items Paid With Any Other Postage Payment Method

[Revise the introductory text to read as follows:]

The disposition of a shortpaid First-Class Mail International item (including a postcard), First-Class Package International Service item, and Airmail M-bag that is paid with a postage payment method other than a permit imprint or USPS-produced PVI label is based on the amount of the deficiency, as follows: * * *

* * * * *

7 Treatment of Inbound Mail

* * * * *

770 Undeliverable Mail

771 Mail of Domestic Origin

* * * * *

771.5 Return Charges for Letter-post Items

771.51 General

* * * * *

[In the list, omit items a and b, and redesignate items c through g as items a through e]

* * * * *

9 Inquiries, Indemnities, and Refunds

* * * * *

920 Inquiries and Claims

921 Inquiries

* * * * *

921.2 Initiating an Inquiry

[Revise the first two sentences to read as follows:]

Inquiries can be initiated for Global Express Guaranteed (GXG) items, Priority Mail Express International items, Priority Mail International items, and registered items. Inquiries are not accepted for ordinary letters or M-bags. * * *

Exhibit 921.2

Time Limits for Inquiries

[Revise the last row to read as follows:]

Product or extra service | Who | When to file an inquiry (from mailing date): No sooner than | When to file an inquiry (from mailing date): No later than
* * * * * * *
Priority Mail International or Registered Mail | Sender or Addressee ⁴ | 7 days | 6 months.
* * * * * * *

* * * * *

921.4 Inquiry Process

[Revise the second sentence to read as follows:]

* * * For inquiries on Priority Mail International items or Registered Mail items, customers must allow foreign posts approximately 60 days to research and respond to the International Research Group. * * *

921.5 General Procedures

921.51 Nondelivery

[Revise the text to read as follows:]

The U.S. Postal Service will initiate an inquiry within the time frames specified in 921.2 with the destination postal administration in any case involving a Priority Mail Express International item, a registered item, or a Priority Mail International item that has not been delivered. Inquiries are not accepted for ordinary letters or M-bags. For nondelivery of Global Express Guaranteed shipments, see 212.46.

* * * * *

Country Price Groups and Weight Limits

* * * * *

[Revise footnote 4 to apply only to Cuba; delete footnote 5; revise the information for Ascension, Bolivia, the Falkland Islands, and Korea, Democratic People's Republic of (North Korea):]

⁴ Cuba: only Priority Mail International Flat Rate Envelopes and Small Flat Rate Priced Boxes (maximum weight: 4 lbs. each) may be used.

Country | Global express guaranteed: Price group | Global express guaranteed: Max. wt. (lbs.) | Priority mail express international: Price group | Priority mail express international: Max. wt. (lbs.) | Priority mail express international: PMEI flat rate envelopes price group ¹ | Priority mail international: Price group | Priority mail international: Max. wt. (ozs./lbs.) | Priority mail international: PMI flat rate envelopes and boxes price group ² | First-class mail international and first-class package international service: Price group | First-class mail international and first-class package international service: Max. wt. (ozs./lbs.) ³
Ascension | n/a | n/a | n/a | n/a | n/a | n/a | n/a | n/a | 7 | 3.5/4
Bolivia | 8 | 70 | 9 | 66 | 2 | n/a | n/a | n/a | 9 | 3.5/4
Cuba | n/a | n/a | n/a | n/a | n/a | n/a | n/a | ⁴ 8 | 9 | 3.5/4
Falkland Islands | n/a | n/a | n/a | n/a | n/a | n/a | n/a | n/a | 9 | 3.5/4
Korea, Democratic People's Republic of (North Korea) | n/a | n/a | n/a | n/a | n/a | n/a | n/a | n/a | 6 | 3.5/4

* * * * *

Country Conditions for Mailing

* * * * *

Priority Mail International (230)

* * * * *

[For each country that lists Priority Mail International insurance, change the parenthetical cross-reference in the heading to “232.91” and revise the text to read as follows:]

Insurance (232.91)

Available for Priority Mail International merchandise only (see 323.72 for markings)

* * * * *

Customs Forms Required (123)

[For each country that lists Priority Mail International, revise the text to read as follows:]

All Priority Mail International items:

PS Form 2976-A inside PS Form 2976-E (envelope)

* * * * *

Free Matter for the Blind (270)

* * * * *

[For each country that lists Free Matter for the Blind, revise the second sentence to read as follows:]

Free when sent as Priority Mail International parcels. Weight limit: 15 pounds.

* * * * *

Customs Form Required (123)

[For each country that lists Free Matter for the Blind customs form information, revise the text to read as follows:]

First-Class Mail International items or First-Class Package International Service items:

PS Form 2976 as required (see 123.61)

Priority Mail International items (including Priority Mail International Flat Rate Envelopes and Priority Mail International Small Flat Rate Priced Boxes):

PS Form 2976-A inside PS Form 2976-E (envelope)

* * * * *

Extra Services

* * * * *

Registered Mail (330)

* * * * *

[For each country that lists Registered Mail service, revise the “availability” paragraph to read as follows:]

Available only for First-Class Mail International, including postcards, First-Class Package International Service, and Free Matter for the Blind sent as First-Class Mail International and First-Class Package International Service.

* * * * *

Return Receipt (340)

* * * * *

[For each country that lists Return Receipt service, revise the “availability” paragraph to read as follows:]

Available for Registered Mail and Priority Mail International only.

Ascension

Country Conditions for Mailing

* * * * *

[Revise the Priority Mail International section to read as follows:]

Priority Mail International (230)

Not Available.

* * * * *

Bolivia

Country Conditions for Mailing

* * * * *

[Revise the introductory text to read as follows:]

Priority Mail International service is suspended due to lack of available air transportation. This suspension of service does not affect other international mail categories currently available.

* * * * *

[Revise the Priority Mail International section to read as follows:]

Priority Mail International (230)

Not Available.

* * * * *

Falkland Islands

Country Conditions for Mailing

* * * * *

[Revise the Priority Mail International section to read as follows:]

Priority Mail International (230)

Not Available.

* * * * *

Korea, Democratic People's Republic of (North Korea) Country Conditions for Mailing

* * * * *

[Revise the Priority Mail International section to read as follows:]

Priority Mail International (230)

Not Available.

* * * * *

We will publish an appropriate amendment to 39 CFR part 20 to reflect these changes.

Stanley F. Mires,
Attorney, Federal Compliance.

[FR Doc. 2016-09213 Filed 4-21-16; 8:45 am]

BILLING CODE 7710-12-P